DEPARTMENT OF THE INTERIOR

National Park Service

[NPS-WASO-NAGPRA- NPS0027118; PPWOCRADN0-PCU00RP14.R50000]

Notice of Inventory Completion: Office of the State Archaeologist Bioarchaeology Program, University of Iowa, Iowa City, IA

AGENCY: National Park Service, Interior.

ACTION: Notice.

SUMMARY: The Office of the State Archaeologist Bioarchaeology Program, previously listed as the Office of the State Archaeologist Burials Program, has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Office of the State Archaeologist Bioarchaeology Program. If no additional requestors come forward, the human remains and associated funerary objects may be reinterred.

DATES: Representatives of any Indian Tribe or Native Hawaiian organization not identified in this notice that wish to request transfer of control of these human remains and associated funerary objects should submit a written request with information in support of the request to the Office of the State Archaeologist Bioarchaeology Program at the address in this notice by April 17, 2019.

ADDRESSES: Dr. Lara Noldner, Office of the State Archaeologist Bioarchaeology Program, University of Iowa, 700 South Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains and associated funerary objects under the control of the Office of the State Archaeologist Bioarchaeology Program, Iowa City, IA. The human remains and associated funerary objects were removed from multiple counties and additional unknown locations in the State of Iowa.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Office of the State Archaeologist Bioarchaeology Program professional staff in consultation with representatives of the Cheyenne River Sioux Tribe of the Cheyenne River Reservation, South Dakota; Citizen Potawatomi Nation, Oklahoma; Flandreau Santee Sioux Tribe of South Dakota; Ho-Chunk Nation of Wisconsin; Iowa Tribe of Kansas and Nebraska; Iowa Tribe of Oklahoma; Lower Sioux Indian Community in the State of Minnesota; Miami Tribe of Oklahoma; Omaha Tribe of Nebraska; Otoe-Missouria Tribe of Indians, Oklahoma; Pawnee Nation of Oklahoma; Peoria Tribe of Indians of Oklahoma; Ponca Tribe of Indians of Oklahoma; Ponca Tribe of Nebraska; Prairie Band Potawatomi Nation (previously listed as the Prairie Band of Potawatomi Nation, Kansas); Sac & Fox Nation of Missouri in Kansas and Nebraska; Sac & Fox Nation, Oklahoma; Sac & Fox Tribe of the Mississippi in Iowa; Santee Sioux Nation, Nebraska; Sisseton-Wahpeton Oyate of the Lake Traverse Reservation, South Dakota; Spirit Lake Tribe, North Dakota; The Osage Nation (previously listed as the Osage Tribe); Three Affiliated Tribes of the Fort Berthold Reservation, North Dakota; Upper Sioux Community, Minnesota; Winnebago Tribe of Nebraska; and Yankton Sioux Tribe of South Dakota (hereafter referred to as “The Tribes”).

History and Description of the Remains

At an unknown date, human remains representing, at minimum, two individuals were removed from an unknown location in the State of Iowa by a local avocational archeologist and transferred to the Office of the State Archaeologist Bioarchaeology Program (OSA-BP) in 2016. The human remains represent two adults of indeterminate sex (BP 3183). No known individuals were identified. No associated funerary objects are present.

At an unknown date, human remains representing, at minimum, 14 individuals were removed from an unknown location in the State of Iowa. The human remains were transferred to the OSA-BP from the Nestor Stiles collection at the Sanford Museum in Cherokee, IA, in 1993. No other provenience information is available, with the exception of a tag indicating an element had come from a “Mound on Spirit Lake” in Iowa. The human remains represent six adult males; three adult females; three adults of indeterminate sex; one adolescent 13-18 years old; and one child three to four years old (BP 656). No known individuals were identified. No associated funerary objects are present.

At an unknown date, human remains representing, at minimum, two individuals were removed from an unknown location in the State of Iowa. In 1995, the human remains were transferred to the OSA-BP from the H. P. Field collection (catalogue no. 100.99.HF.01.16) at Luther College in Decorah, IA. No other provenience information is available. The human remains represent one adult of indeterminate age and sex and one subadult four to seven years old (BP 898). No known individuals were identified. No associated funerary objects are present.

At an unknown date, human remains representing, at minimum, two individuals were removed from unknown locations in the State of Iowa by an amateur archeologist, and were included in a large donation of archeological material to Luther College in Decorah, IA. In 1995, the human remains were transferred to the OSA-BP. The human remains consist of an occipital bone and a nearly complete mandible representing one subadult approximately 8 to 12 years old (BP 922), and one individual approximately 18-21 years old of indeterminate sex (BP 896). No known individuals were identified. No associated funerary objects are present.

At an unknown date, human remains representing, at minimum, two individuals were removed from an unknown location by a private individual, and were transferred to the OSA-BP in 2014. The remains were reportedly collected in eastern Iowa, but no exact provenience information is available. The human remains represent one female of indeterminate age (BP 3031) and one individual of indeterminate age and sex. No known individuals were identified. No associated funerary objects are present.

At an unknown date, human remains representing, at minimum, three individuals were removed from an unknown location in the State of Iowa. In 2010, the human remains were transferred to the OSA-BP after their discovery in the H. P. Field collection in the Luther College Anthropology Laboratory, Decorah, IA. No other provenience information is available. The human remains represent one adult of indeterminate age and sex, one adult male of indeterminate age, and one juvenile approximately 11-15 years old (BP 2547). No known individuals were identified. No associated funerary objects are present.

At an unknown date, human remains representing, at minimum, two individuals were removed from an unknown location in the State of Iowa. The human remains were transferred from a private collection to the Sanford Museum in Cherokee, IA, and then transferred to the OSA-BP. The human remains represent two young adults of indeterminate sex (BP 2783). No known individuals were identified. No associated funerary objects are present.

At an unknown date, human remains representing, at minimum, one individual were removed from site 13AM5 in Allamakee County, IA, by Gavin Sampson, an avocational archeologist. Mr. Sampson collected artifacts primarily in Winneshiek and Allamakee counties from the 1940s through the 1960s, and donated his collection to Luther College, Decorah, IA, in 1969. The human remains were transferred to the OSA-BP in 1995. Site 13AM5 is a Woodland and Oneota period site. The human remains consist of two human teeth representing one older juvenile/young adult of indeterminate sex (BP 920). No known individual was identified. No associated funerary objects are present.

In 2013, human remains representing, at minimum, one individual were removed from a sandbar along the Raccoon River in Calhoun County, IA, by the Calhoun County Assistant County Engineer, who turned them over to the Calhoun County Sheriff. The human remains were transferred to the Iowa State Medical Examiner's Office and then to the OSA-BP in 2013. The human remains consist of a partial cranium representing one adult of indeterminate sex (BP 2933). No known individual was identified. No associated funerary objects are present.

At an unknown date, human remains representing, at minimum, one individual were removed from site 13CH5 in Calhoun County, IA. In 2009, an archeologist in the Office of the State Archaeologist (OSA) discovered the remains while examining the Russ Campbell archeological collection. This collection was housed at the Humboldt County Historical Association's Mill Farm Historical Museum in Dakota City, IA, and then transferred to the OSA-BP in 2009. Site 13CH5 is a multicomponent site suggesting a Paleoindian to Late Prehistoric affiliation. The human remains consist of a cranial fragment representing one adult of indeterminate age and sex (BP 2411). No known individual was identified. No associated funerary objects are present.

In 2014, human remains representing, at minimum, one individual were removed from a sandbar along the Little Sioux River in Cherokee County, IA, by the Cherokee County Sheriff's Office, and sent to the Iowa State Medical Examiner's Office, which determined they were not of recent date. The human remains were transferred to the OSA-BP in 2014. The human remains consist of a partial human cranium representing one adult male (BP 2979). No known individual was identified. No associated funerary objects are present.

In 2011, human remains representing, at minimum, one individual were removed from a sandbar near the juncture of Mill Creek and the Little Sioux River in Cherokee County, IA, by unknown individuals. The human remains were given to the Cherokee County Sheriff's Office, then to the Department of Criminal Investigation, and then to the State Medical Examiner's Office, before being transferred to the OSA-BP. The human remains consist of a partial cranium representing one adult male (BP 2670). No known individual was identified. No associated funerary objects are present.

In April of 2015, human remains representing, at minimum, one individual were removed from a sandbar near the juncture of Mill Creek and Grace Creek in Cherokee County, IA, by unknown individuals. Initially the remains were given to the Sanford Museum in Cherokee, IA, and then they were transferred to the OSA-BP. The human remains consist of a partial human mandible representing one middle-aged adult male (BP 3121). No known individual was identified. No associated funerary objects are present.

In 1974, human remains representing, at minimum, three individuals were removed from site 13CN9 in Clinton County, IA, by a bulldozer operator working on the Flood Control Project at Eagle Point Park. The human remains remained in the possession of an avocational archeologist until they were transferred to the OSA-BP in June of 2015. Artifacts recovered from site 13CN9 suggest a Woodland period affiliation. The human remains represent individuals of indeterminate sex, including two adults and a young adolescent to young adult (BP 3137). No known individuals were identified. No associated funerary objects are present.

In 1954, human remains representing, at minimum, 10 individuals were removed from site 13CN162 in Clinton County, IA, by an avocational archeologist. Some of these remains were transferred to the OSA-BP in 2001, and the remainder were transferred in 2015. The human remains represent eight adults, one young juvenile, and one newborn (BP 1497, 3136), all of indeterminate sex. No known individuals were identified. The 11 associated funerary objects include 3 chert flakes, 6 pieces of chert debitage, 1 chert drill, and 1 pot sherd.

Between 1991 and 1992, human remains representing, at minimum, one individual were removed from site 13DB62 in Dubuque County, IA, by OSA personnel during excavations for the Iowa Department of Natural Resources at the Mines of Spain Recreational Area. The human remains consist of a parietal fragment and a femur fragment representing an older juvenile or young adult of indeterminate age and sex (BP 599). No known individual was identified. No associated funerary objects are present.

In 1970, human remains representing, at minimum, one individual were removed from site 13DB346 in Dubuque County, IA, by John Reese of the University of Dubuque. In 2010, the human remains were found in the Paleontology Repository at the University of Iowa and transferred to the OSA-BP. No other provenience information is available. The human remains consist of human cranial material representing an adult of indeterminate age and sex (BP 2436). No known individual was identified. No associated funerary objects are present.

In 2014, human remains representing, at minimum, one individual were removed from site 13DB1010 in Dubuque County, IA, by personnel of Wapsi Valley Archaeology, Inc. of Anamosa, IA, during archeological testing. The human remains were transferred to the OSA-BP in July 2014. Artifacts recovered from site 13DB1010, a rockshelter, suggest a possible Middle or Late Woodland affiliation. The human remains consist of one cranial fragment representing an adult of indeterminate age and sex (BP 3057). No known individual was identified. No associated funerary objects are present.

At an unknown date, human remains representing, at minimum, one individual were removed from site 13DK23 in Dickinson County, IA. At an unknown date, the human remains were donated to the Sanford Museum in Cherokee, IA, by a local collector who recorded 13DK23 in 1975 after reporting that the site had been exposed during road construction activities. The remains were then transferred to the OSA-BP in 2014. Site 13DK23 is a Woodland period camp site. The human remains consist of four cranial fragments representing an adult individual of indeterminate age and sex (BP 3059). No known individual was identified. No associated funerary objects are present.

At an unknown date human remains representing, at minimum, one individual were removed from an unknown site in Des Moines County, IA. In 2011, an archeologist from the OSA reported observing possible human skeletal remains in a display case at the Dr. H. M. Patterson Museum, Mediapolis Library in Mediapolis, IA. The human remains were transferred from the Mediapolis Library to the OSA-BP in the same year. A label associated with the human remains indicates they originated from a “prehistoric mound” in Huron Township, IA, and were removed in the late 19th to early 20th century. No other provenience information is available. The human remains represent an adult male approximately 24-29 years old (BP 2685). No known individual was identified. No associated funerary objects are present.

At an unknown date, human remains representing, at minimum, one individual were removed from an unknown site in Humboldt County, IA. The human remains were found in the collection of archeologist Amy Harvey, and were stored at Stephens College in Columbia, MO. The collection was transferred to the OSA-BP in 2010 and 2013. The label associated with the human remains indicates they were removed from Humboldt County, IA. No other provenience information is available. The human remains represent an older adult of indeterminate sex (BP 2956). No known individual was identified. No associated funerary objects are present.

In 2001, human remains representing, at minimum, one individual were removed from an unknown site at Lake Macbride in Johnson County, IA, and were transferred to the OSA-BP. The human remains represent an adult of indeterminate age and sex (BP 1478). No known individual was identified. No associated funerary objects are present.

In 1969, human remains representing, at minimum, eight individuals were removed from the Blosser Site (13BN125) in Boone County, IA. The remains were recovered during test excavations conducted by the Iowa State University Archaeological Laboratory (ISUAL) at the Saylorville Reservoir. The human remains were transferred to the OSA-BP in 1991. Eight adults, including three possible females and one possible male, are represented by the remains (BP 524). No known individuals were identified. The 6 associated funerary objects are 4 bison scapula fragments, 1 celt, and 1 incomplete ceramic vessel.

Between 1932 and 1936, human remains representing, at minimum, one individual were removed from the Levsen Rockshelter site (13JK4) in Jackson County, IA. The site was excavated by a local avocational archeologist who amassed a large collection of archeological materials in the mid-1930s. The human remains were discovered in the collections of Maquoketa Caves State Park in Maquoketa, IA, and were transferred to the OSA-BP in 2009. Site 13JK4 is a multicomponent site occupied from the late Early Woodland through the Late Woodland periods. The human remains consist of a human hand phalanx representing an adult of indeterminate age and sex (BP 3013). No known individual was identified. No associated funerary objects are present.

Between 1968 and 1969, human remains representing, at minimum, one individual were removed from site 13JK20 in Jackson County, IA, by Manfred Jaehnig from the University of Wisconsin-Madison. The human remains were transferred to the OSA-BP at some time between 2010 and 2014. Subsequent Carbon-14 dating of charcoal remnants in the burial suggests that the human remains date to the Late Woodland period. The human remains represent a subadult approximately 1.5 to 3.5 years old (BP 2673, 3033). No known individual was identified. The 2 associated funerary objects are 1 fresh-water clam shell and 1 lot of 108.5 grams of soil containing charcoal.

Between 1968 and 1969, human remains representing, at minimum, three individuals were removed from site 13JK21 in Jackson County, IA, by Manfred Jaehnig from the University of Wisconsin-Madison. The human remains were transferred to the OSA-BP at some time between 2010 and 2014. Based on archeological evidence, the remains likely date to the Woodland period. The human remains represent individuals of indeterminate sex, including an older adult of indeterminate age; a subadult approximately 5-10 years old; and a subadult less than two years old (BP 2674). No known individuals were identified. No associated funerary objects are present.

In 1975, human remains representing, at minimum, two individuals were removed from site 13JK23 in Jackson County, IA, by University of Iowa students and members of the Iowa Archaeological Society under the supervision of State Archaeologist Duane C. Anderson. In 2014, human remains from the excavation were found in the OSA Repository, and were transferred to the OSA-BP. Based on archeological evidence, the remains likely date to the Woodland period. The human remains consist of cranial fragments representing a child approximately 5 to 8 years old of indeterminate sex, and an adult of indeterminate age and sex (BP 3034). No known individuals were identified. No associated funerary objects are present.

In 1926, human remains representing, at minimum, two individuals were removed from site 13JK66 in Jackson County, IA, by Paul H. Nesbitt. In 1926, Alonzo Pond, assistant curator of the Logan Museum at Beloit College in Wisconsin, and Mr. Nesbitt, a recent graduate of Beloit College, investigated several caves in the vicinity of Maquoketa, IA. Mr. Nesbitt spent 10 weeks excavating site 13JK66, where he encountered human skeletal remains. In 2014, during examination of the faunal remains from the site, three human bone fragments and one complete human bone were found by an OSA faunal analyst. These human remains were then deaccessioned from the Logan Museum's collection and transferred to the OSA-BP. Based on archeological evidence, the human remains likely date from the Middle Archaic to Oneota periods, and represent a middle-aged/older adult of indeterminate sex and a later-term fetus/newborn (BP 3016) of indeterminate sex. No known individuals were identified. No associated funerary objects are present.

At an unknown date, human remains representing, at minimum, one individual were removed from site 13JK80 in Jackson County, IA. Based on archeological evidence, the remains likely date to the Late Woodland period and represent a middle-aged/older adult female (BP 171). No known individual was identified. No associated funerary objects are present.

In 2013, human remains representing, at minimum, two individuals were removed from site 13JN12 in Jones County, IA, during a survey by an archeologist from the OSA. The human remains were transferred to the OSA-BP in 2013. Based on archeological evidence, the human remains likely date to the Late Woodland period and consist of a human vertebra representing a subadult approximately 8-10 years old of indeterminate sex, and a right tarsal bone representing an individual of indeterminate age and sex (BP 2835). No known individuals were identified. No associated funerary objects are present.

In 2013, human remains representing, at minimum, one individual were removed from a location along the South Skunk River in Jasper County, IA, by the Jasper County Sheriff's Office, and were sent to the Iowa State Medical Examiner's Office. These human remains were transferred to the OSA-BP in 2013. The human remains consist of a partial cranium representing an adult, 30-50 years old, of indeterminate sex (BP 2928). No known individual was identified. No associated funerary objects are present.

In 2011, human remains representing, at minimum, three individuals were removed from site 13LA139 in Louisa County, IA, by unknown individuals. The area was inspected by investigators from the State Medical Examiner's Office, local law enforcement officers, and OSA-BP Director Shirley Schermer. Upon further investigation, two additional burials were discovered by OSA-BP personnel. As the remains were not of medico-legal significance, they were transferred to the OSA-BP in 2011. Site 13LA139 is a documented Late Woodland and Oneota habitation site. The human remains represent a subadult approximately 4.5 to 4.8 years old of indeterminate sex, and two adults of indeterminate sex and age (BP 2600). No known individuals were identified. The 9 associated funerary objects include 2 pieces of chert debitage and 6 potsherds, and 1 lot of charcoal.

At an unknown date, human remains representing, at minimum, one individual were removed from an unknown location in Lee County, IA. The human remains were transferred from the Caleb F. Davis collection at the Iowa State Historical Museum to the OSA-BP in 1989. The human remains consist of three human teeth (BP 329) representing a middle-aged adult of indeterminate sex. No known individual was identified. No associated funerary objects are present.

In 1999, human remains representing, at minimum, one individual were removed from site 13MC336 in Muscatine County, IA, during excavation for a home. The Iowa State Medical Examiner's Office contacted forensic anthropologist Dr. Dawnie Steadman of Iowa State University who, with the assistance of personnel from the OSA-BP, examined the burial site. The human remains were ultimately removed, as they had been heavily disturbed by the excavation. Dr. Steadman performed an initial examination of the remains, after which they were transferred to the OSA-BP (in 1999). No artifacts diagnostic of time period or cultural affiliation were encountered during excavation. The human remains represent a child approximately eight years old (BP 1295) of unknown sex. No known individual was identified. No associated funerary objects are present.

In 2008, human remains representing, at minimum, one individual were removed from site 13ML690 in Mills County, IA, by a Mills County Conservation Board naturalist. The human remains were then transferred to the OSA-BP. No other provenience information is available. The human remains are possibly prehistoric, and consist of a partial mandible representing an adult of indeterminate age and sex (BP 2233). No known individual was identified. No associated funerary objects are present.

In March 2015, human remains representing, at minimum, one individual were removed from a sandbar along the Nishnabotna River in Page County, IA, by a private individual and taken into custody by the Page County Sheriff's Office. The human remains were initially transferred to the Iowa State Medical Examiner's Office in Des Moines, IA, and then transferred to the OSA-BP in April 2015. The human remains consist of a partial cranium representing an adult male approximately 35-60 years of age (BP 3113). No known individual was identified. No associated funerary objects are present.

In April 2015, human remains representing, at minimum, one individual were removed from a sandbar along the Indian River in Polk County, IA, by a private individual and taken into custody by the Polk County Sheriff's Office. The human remains were initially transferred to the Iowa State Medical Examiner's Office, who consulted with the OSA-BP on the antiquity of the remains. As the human remains were not of medico-legal significance, they were transferred to the OSA-BP in May 2015. The human remains consist of a partial cranium representing a middle-aged adult male (BP 3119). No known individual was identified. No associated funerary objects are present.

At an unknown date, human remains representing, at minimum, one individual were removed from site 13PK38, in Polk County, IA, by a private individual. Site 13PK38 is a burial site associated with the Great Oasis culture. The human remains consist of a mandible representing an adult of indeterminate sex approximately 30-45 years of age (BP 2754). No known individual was identified. No associated funerary objects are present.

In 2011, human remains representing, at minimum, two individuals were removed from site 13PK96, in Polk County, IA, by the University of Iowa OSA personnel. Following consultation with the OSA Indian Advisory Council, the human remains were removed from the site and transferred to the OSA-BP. Site 13PK96 is a Middle Archaic site. The human remains represent an adult female of indeterminate age; and an infant approximately 3-9 months old (BP 2604). No known individuals were identified. The 3 associated funerary objects are 1 Raddatz projectile point; 1 polished stone; and 1 lot of red ochre.

In 1969, human remains representing, at minimum, two individuals were removed from site 13PM25 in Plymouth County, IA, by University of Nebraska personnel under the direction of Dale Henning. During an examination of archeological material from the site by students from the University of Wisconsin-Madison, human remains were identified and were returned to the University of Nebraska in the early 1970s. In 2015, during further analysts of archaeological material by Henning, additional human remains were discovered in the collection. All the human remains were transferred to the OSA-BP in September 2015. Site 13PK38 is associated with the Great Oasis culture. The human remains represent an adult of indeterminate age and sex, and an adolescent of less than 16 years old (BP 3153). No known individuals were identified. No associated funerary objects are present.

In 1966, human remains representing, at minimum, six individuals were removed from site 13PM32 in Plymouth County, IA by an avocational archeologist. Some of the excavated human remains were sent to the University of Wisconsin-Madison, and were then transferred to the OSA-BP for analysis in 2011. Site 13PM32 is associated with the Woodland and Great Oasis cultures. The human remains represent two adult males, two adult females, one subadult 5-7 years old, and one subadult 8-10 years old (BP 2672). No known individuals were identified. No associated funerary objects are present.

At an unknown date, human remains representing, at minimum, three individuals were removed from site 13PM50 in Plymouth County, IA. The human remains were transferred from the Sanford Museum, Cherokee, IA, to the OSA-BP in 2007 and 2014. Site 13PM50 is a multicomponent Woodland site and Great Oasis village. The human remains represent a young adult of indeterminate sex; an individual between 6 and 21 years old of indeterminate sex; and an infant approximately three months old (BP 3061). No known individuals were identified. No associated funerary objects are present.

In 2010, human remains representing, at minimum, one individual were removed from site 13PM264 in Plymouth County, IA, during construction at a private residence. The Iowa State Medical Examiner's Office contacted a forensic anthropologist, who examined the exposed burial and determined that the human remains were ancient Native American. Consultation among the OSA-BP Director Shirley Schermer, several Indian Tribes, and members of the OSA Indian Advisory Council resulted in consensus that the burial be removed. Schermer removed the human remains and transferred them to the OSA-BP. No artifacts diagnostic of time period or cultural affiliation were encountered. The human remains represent an adult male, approximately 20-35 years old (BP 2542). No known individual was identified. No associated funerary objects are present.

In 1956, human remains representing, at minimum, five individuals were removed from an unknown location in Pottawattamie County, IA, by a private individual. In 2010, the human remains were transferred to the OSA-BP. The fragmentary human remains represent one adult of indeterminate age and sex; one juvenile 13-19 years old; one subadult 9-13 years old; one subadult 6-8 years old; and one subadult 2.5-4.5 years old (BP 2433). No known individuals were identified. No associated funerary objects are present.

In 2012, human remains representing, at minimum, one individual were removed from the Nishnabotna River, south of the city of Macedonia, in Pottawattamie County, IA. In September of 2012, after determining the remains were not recent, the Iowa State Medical Examiner's Office transferred the human remains to the OSA-BP. The human remains consist of a mandible representing a middle-aged adult of indeterminate sex (BP 2817). No known individual was identified. No associated funerary objects are present.

At an unknown date, human remains representing, at minimum, one individual were removed from an unknown location in Pottawattamie County, IA. In 1999, the human remains were found in the basement of a Council Bluffs, IA, residence. The human remains were retrieved by the Pottawattamie County Sheriff's Department criminalist, who transferred them to forensic anthropologist Dr. Dawnie Steadman, then at Iowa State University. After determining the remains were prehistoric, Dr. Steadman transferred the remains to the OSA-BP. The human remains consist of a cranium and mandible representing a middle-aged adult male (BP 1342). No known individual was identified. No associated funerary objects are present.

In 2009, human remains representing, at minimum, one individual were removed from the south slope of site 13PW43 in Pottawattamie County, IA, by an OSA-BP archeologist. In 1924, Charles R. Keyes dated site 13PW43 to both the prehistoric and historic periods and identified Native American burials there. The human remains consist of a bone fragment representing one individual of indeterminate age and sex (BP 2418). No known individual was identified. No associated funerary objects are present.

In 2001, human remains representing, at minimum, two individuals were removed from site 13PW176 in Pottawattamie County, IA, during construction of a retaining wall. The incident was reported to the Pottawattamie County Sheriff's Office and treated as a forensic case. The human remains underwent forensic analysis by Dr. Dawnie Steadman then at the State University of New York. As the results of C¹⁴ analysis indicated that a femur dated to approximately A.D. 1190, and a tibia dated to approximately A.D. 184, the possibility that the remains were of medico-legal significance could be excluded. In 2002, the human remains were transferred to the University of Iowa OSA-BP. The human remains represent a juvenile of indeterminate sex, 14-20 years old; and a slightly older juvenile/young adult of indeterminate sex (BP 1570). No known individuals were identified. No associated funerary objects are present.

In 2013, human remains representing, at minimum, one individual were removed from a sandbar along the Skunk River in the city of Ames in Story County, IA. The human remains were transferred to the Story County Sheriff and then to the Iowa State Medical Examiner's Office. The Medical Examiner determined that the human remains were ancient, and transferred them to the OSA-BP in 2013. No other provenience information is available. The human remains consist of a partial cranium representing an adult female approximately 30-40 years old (BP 2912). No known individual was identified. No associated funerary objects are present.

In 2014, human remains representing, at minimum, one individual were removed from the Big Sioux Wildlife Area in Sioux County, IA, by a private individual. The human remains were sent to the Iowa State Medical Examiner's Office (case #14SME544). The human remains, which had been found near a Native American burial site (13SX12) of unknown cultural affiliation, were determined to be prehistoric and were transferred to the OSA-BP in 2014. The human remains consist of a partial mandible representing an adult of indeterminate age and sex (BP 3072). No known individual was identified. No associated funerary objects are present.

At an unknown date, human remains representing, at minimum, three individuals were removed from an unknown location in Union County, IA. In 2013, museum staff at the Iowa State Historical Society located three boxes containing the human remains of several individuals. The human remains were catalogued between 1914 and 1935, but no other provenience information is available. The human remains were transferred to the OSA-BP in 2013, and represent two middle-aged adults of indeterminate sex; and a subadult approximately 9-9.5 years old (BP 2926). No known individuals were identified. No associated funerary objects are present.

At an unknown date, human remains representing, at minimum, one individual were removed from site 13WB215 in Webster County, IA. In 2009, the human remains were identified among archeological material belonging to the Russ Campbell Collection, which is housed at the Humboldt County Historical Association's Mill Farm Historical Museum in Dakota City, IA. The human remains were transferred to the OSA-BP in 2009. Site 13WB215 was occupied from the Middle Archaic to post-Woodland periods, and includes a cemetery associated with Middle and Late Woodland components. The human remains consist of a cranial fragment representing an adult of indeterminate age and sex (BP 2412). No known individual was identified. No associated funerary objects are present.

At an unknown date, human remains representing, at minimum, three individuals were removed from site 13WB357 in Webster County, IA, by a private individual. The human remains are reported to have been located in pit silo burials encountered by the individual's grandfather and great-grandfather in the 1930s. The pit silo burials may have been associated with site 13WB357, a conical mound of unknown cultural or temporal affiliation. The remains were transferred to the University of Iowa OSA-BP in 2008. No other provenience information is available. The human remains represent two adults of indeterminate age and sex, and one subadult of indeterminate age and sex (BP 2297). No known individuals were identified. No associated funerary objects are present.

In 2013, human remains representing, at minimum, one individual were removed from a sandbar along the Little Sioux River in Woodbury County, IA, by a private individual. The human remains were taken to a professional archeologist, who identified the remains as human. Contact was also made with OSA-BP Director Shirley Schermer, and the remains were transferred to the OSA-BP in 2013. No other provenience information is available. The human remains consist of a cranium representing a young to middle-aged adult of indeterminate sex (BP 2960). No known individual was identified. No associated funerary objects are present.

At an unknown date, human remains representing, at minimum, two individuals were removed from an unknown location in Woodbury County, IA, by an unknown individual. In October 2009, human remains from this unknown location were identified in the collections of the Sanford Museum in Cherokee, IA, and were transferred to the OSA-BP. No other provenience information is available. The human remains consist of one cranial element (BP 3036), a vertebra, and a rib (BP 3037). They represent a middle-aged/older adult of indeterminate sex (BP 3036), and an adult of indeterminate age and sex (BP 3037). No known individuals were identified. No associated funerary objects are present.

At an unknown date, human remains representing, at minimum, five individuals were removed from an unknown location in northern Winnebago County, IA. In 2015, the human remains were transferred to the OSA-BP by a private individual. The human remains represent one young/middle-aged adult male; two middle-aged to older adults of indeterminate sex; one possibly older adult of indeterminate sex and age; and one subadult approximately 2.5-3.5 years old (BP 3154). No known individuals were identified. No associated funerary objects are present.

At an unknown date, human remains representing, at minimum, one individual were removed from an unknown location north of the town of Decorah in Winneshiek County, IA. The human remains, which had been disturbed during road construction, were donated by the local police department to Decorah High School, possibly in the 1960s. In December 2015, the human remains were transferred to the OSA-BP and identified as Native American. The human remains represent a middle-aged/older adult male (BP 3165). No known individual was identified. No associated funerary objects are present.

In 1954 or 1955, human remains representing, at minimum, one individual were removed from site 13WH16 in Winneshiek County, IA, by an avocational archeologist whose collections are housed at the Luther College Archaeological Laboratory in Decorah, IA. The human remains (2000.13WH16.1.1) were transferred to the OSA-BP in 2001. Site 13WH16 is determined to be a Woodland and Oneota site. The human remains consist of a tooth representing a subadult approximately 1-2.5 years old (BP 1476). No known individual was identified. No associated funerary objects are present.

In 1995, human remains representing, at minimum, two individuals were removed from site 13WH35 in Winneshiek County, IA, during archeological excavations. All the archeological materials were housed at the Luther College Archaeological Laboratory in Decorah, IA. In 2001, human remains were identified in the collection, and were transferred to the OSA-BP. Site 13WH35 is a Woodland and Oneota site. The human remains consist of two human teeth representing a juvenile/young adult of indeterminate sex and a middle-aged adult of indeterminate sex (BP 1477). No known individuals were identified. No associated funerary objects are present.

In 1995, human remains representing, at minimum, one individual were removed from site 13WH111 in Winneshiek County, IA, during archeological test excavations at the historic Winnebago school by OSA personnel, and were transferred to the OSA-BP. The Winnebago school was in use between 1840 and 1848. The human remains consist of a human tooth representing a subadult approximately 7.5-12.5 years old (BP 838). No known individual was identified. No associated funerary objects are present.

In 2012, human remains representing, at minimum, one individual were removed from site 13WH128 in Winneshiek County, IA, during archeological test excavations at the mound and were transferred to the OSA-BP. No artifacts diagnostic of time period or cultural affiliation were encountered. The human remains consist of a human tooth crown representing an individual between 12 and 21 years old of indeterminate sex (BP 2695). No known individual was identified. No associated funerary objects are present.

On July 11, 2016, human remains representing, at minimum, one individual were removed from site 13SA131, on a sandbar in the North Raccoon River, in Sac County, IA. The human remains were recovered by the Sac County Sheriff's Department, and were transferred to the Iowa Office of the State Medical Examiner on July 12, 2016. The Medical Examiner sent the remains to Michael Finnegan of Forensic Anthropological Consultants in Manhattan, KS. Dr. Finnegan determined the remains were not of medico-legal significance and returned them to the Iowa State Medical Examiner after examination. The remains were then transferred to the OSA-BP on August 5, 2016. The human remains consist of a partial cranium representing a middle-aged/older Native American adult male (BP 3213). No known individual was identified. No associated funerary objects are present.

On July 16, 2016, human remains representing, at minimum, one individual were removed from site 13SH74, in the West Nishnabotna River, in Shelby County, IA. The remains were recovered by the Shelby County Sheriff's Department, and were transferred to the Iowa Office of the State Medical Examiner in Ankeny, IA. The Office of the State Medical Examiner transferred the remains to the OSA-BP in August 2016. The human remains consist of a complete cranium representing an older adult female (BP 3212). No known individual was identified. No associated funerary objects are present.

In 1955, human remains representing, at minimum, one individual were removed from the Turin Site (13MN2), a Middle Archaic burial site in Monona County, IA. The remains were recovered during excavations conducted by Reynold J. Ruppe and W.D. Frankforter following the exposure of four burials during gravel mining operations. The majority of the human remains recovered during these excavations were reburied in 1988 and 1993. In 2011, additional remains representing a single individual were discovered in the collection of the late Adrian Anderson. The remains were transferred to the OSA-BP in 2011. The human remains represent a subadult aged approximately six to seven years (BP 2708). No known individual was identified. No associated funerary objects are present.

In 2012 and 2014, human remains representing, at minimum, two individuals were removed from the Woodpecker Cave site (13JH202) in Johnson County, IA. The site, which has both Archaic and Woodland components, was excavated by the University of Iowa Department of Anthropology field school. Isolated human elements (teeth and phalanges) were identified during laboratory processing and were transferred to the OSA-BP. The human remains represent two adults of indeterminate age and sex (BP 2755, 3039). No known individuals were identified. No associated funerary objects are present.

In June 2016, human remains representing, at minimum, one individual were removed from site 13CA75 in Cass County, IA. The human remains were discovered by boaters after being exposed on a sandbar in the East Nishnabotna River near Cold Springs State Park. The human remains were transferred to the Montgomery County Sheriff's Office, then to the Cass County Sheriff's Office, who transferred them to the Iowa State Medical Examiner's Office. The State Medical Examiner determined that the human remains were greater than 150 years old and transferred them to OSA-BP. The human remains represent an adult of indeterminate age and sex (BP 3197). No known individuals were identified. No associated funerary objects are present.

In 1965, human remains representing, at minimum, two individuals were removed from the Charles D. Johnson Mound (13PK33) in Polk County, IA. A salvage excavation of the Middle Woodland mound was conducted by an archaeological team from Iowa State University in cooperation with the National Park Service, prior to the destruction of the site during the relocation of the Wabash Railroad. Human remains recovered from this excavation were stored at the Iowa State University Archaeological Laboratory (ISUAL), and were transferred to the OSA-BP in 1991. The human remains represent one adult and one subadult of indeterminate age and sex (BP 522). No known individuals were identified. The one associated funerary object is a ceramic vessel represented by 15 sherds.

Although some of the human remains were removed from archeological sites from which Archaic, Woodland, and Great Oasis components could be identified, none of these archeologically-defined traditions can be reasonably traced to any present-day Indian Tribes. Although the Oneota tradition can be affiliated with present-day Indian Tribes, and was present at sites from which human remains were removed, there were also other traditions/components present, thus, the human remains and artifacts could not be associated with the Oneota phases.

At the time of the excavation and removal of these human remains and associated funerary objects, the land from which the remains and objects were removed was not the tribal land of any Indian Tribe or Native Hawaiian organization. The Office of the State Archaeologist Bioarchaeology Program consulted with The Tribes who are recognized as aboriginal to the area from which these Native American human remains and associated funerary objects were removed. None of The Tribes agreed to accept control of the human remains and associated funerary objects.

Pursuant to 43 CFR 10.11(c)(2)(ii), the Secretary of the Interior may make a recommendation for the culturally unidentifiable human remains and associated funerary objects with a “tribal land” or “aboriginal land” provenience to be reinterred under State or other law. Since 2016, the Office of the State Archaeologist Bioarchaeology Program has conducted consultations with The Tribes to develop an agreement, titled Process for Reburial of Culturally Unidentifiable Native American Human Remains and Associated Funerary Objects Originating from Iowa (hereafter referred to as “The Process”). Under The Process, the Office of the State Archaeologist (OSA) and The Tribes agree that OSA will reinter Native American human remains and associated funerary objects originating from Iowa according to Iowa law where: The Native American human remains and associated funerary objects originating from Iowa are under the control of OSA or the State Historical Society of Iowa (SHSI); OSA or SHSI has completed an inventory of these remains and objects, as required; OSA or SHSI has determined that these remains and objects are culturally unidentifiable; the Indian Tribe (if any) from whose tribal land, at the time of excavation or removal, the remains and objects were removed does not agree to accept control of the remains and objects; and no Indian Tribe that is recognized as aboriginal to the area from which the remains and objects were removed agrees to accept control of the remains and objects. In September 2018, OSA requested that the Secretary of the Interior, through the Native American Graves Protection and Repatriation Review Committee, approve the proposed reinterment of culturally unidentifiable Native American human remains and associated funerary objects according to Iowa law and The Process. The Review Committee, acting pursuant to its responsibility under 25 U.S.C. 3006(c)(5), considered the request at its October 2018 meeting and recommended to the Secretary that such reinterments proceed. A December 2018 letter on behalf of the Secretary of Interior from the Acting Associate Director for Cultural Resources, Partnerships, and Science, National Park Service, transmitted the authorization for the reinterment of culturally unidentifiable Native American human remains and associated funerary objects originating from Iowa, according to The Process and NAGPRA, and pending publication of a Notice of Inventory Completion in the Federal Register. This notice fulfills that requirement.

Determinations Made by the Office of the State Archaeologist Bioarchaeology Program

Officials of the Office of the State Archaeologist Bioarchaeology Program have determined that:

• Pursuant to 25 U.S.C. 3001(9), the human remains described in this notice are Native American based on their association with documented prehistoric and/or historic archeological sites, cranial and dental morphology when observable, and/or osteological signatures of the antiquity of remains, such as tooth wear and taphonomic processes.

• Pursuant to 25 U.S.C. 3001(9), the human remains described in this notice represent the physical remains of 138 individuals of Native American ancestry.

• Pursuant to 25 U.S.C. 3001(3)(A), the 32 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Pursuant to 43 CFR 10.11(c)(2)(ii)(B), the human remains and associate funerary objects will be reinterred according to Iowa law and The Process.

Additional Requestors and Disposition

Representatives of any Indian Tribe or Native Hawaiian organization not identified in this notice that wish to request transfer of control of these human remains and associated funerary objects should submit a written request with information in support of the request to Dr. Lara Noldner, Office of the State Archaeologist Bioarchaeology Program, University of Iowa, 700 South Clinton Street, Iowa City, IA 52242, telephone (319) 384-0740, email lara-noldner@uiowa.edu, by April 17, 2019. After that date, if no additional requestors have come forward, the human remains and associated funerary objects may be reinterred.

The Office of the State Archaeologist Bioarchaeology Program is responsible for notifying The Tribes that this notice has been published.

Dated: February 19, 2019.
Melanie O'Brien,
Manager, National NAGPRA Program.

[FR Doc. 2019-04911 Filed 3-15-19; 8:45 am]

BILLING CODE 4312-52-P